DEPARTMENT OF HEALTH AND HUMAN SERVICES

Centers for Disease Control and Prevention

Agency for Toxic Substances and Disease Registry

[Program Announcement 03012]

Public Health Conference Support Cooperative Agreement; Notice of Availability of Funds Amendment

A notice announcing the availability of Fiscal Year 2003 funds for a cooperative agreement program to support public health conferences was published in the Federal Register dated January 10, 2003, Volume 68, Number 7, pages 1463-1467. The notice is amended as follows: Page 1466, first column, section “G. Submission and Deadline,” remove the Application due date of May 1, 2003, and replace with an application due date of May 22, 2003.

Dated: May 7, 2003.
Sandra R. Manning,
Director, Procurement and Grants Office, Centers for Disease Control and Prevention.

[FR Doc. 03-11863 Filed 5-12-03; 8:45 am]

BILLING CODE 4163-18-P